DEPARTMENT OF COMMERCE

National Oceanic and Atmospheric Administration

[I.D. 061505E]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a joint meeting of the Standing, Special Mackerel, Special Reef Fish and Special Spiny Lobster Scientific and Statistical Committees (SSCs).

DATES: The meeting will begin at 1 p.m. on Tuesday, July 5, 2005, and conclude no later than 12 noon on Friday, July 8, 2005.

ADDRESSES: The meeting will be held at the Wyndham New Orleans at Canal Place, 100 Rue Iberville, New Orleans, LA 70130.

Council address: Gulf of Mexico Fishery Management Council, 3018 North U.S. Highway 301, Suite 1000, Tampa, FL 33619.

FOR FURTHER INFORMATION CONTACT: Mr. Steven Atran, Population Dynamics Statistician, Gulf of Mexico Fishery Management Council; telephone: (813) 228-2815.

SUPPLEMENTARY INFORMATION: The Gulf of Mexico Fishery Management Council (Council) will convene a joint meeting of the Standing, Special Reef Fish, Special Mackerel and Special Spiny Lobster Scientific and Statistical Committees (SSCs) to review stock assessments on red snapper, king mackerel and spiny lobster, plus amendments to the Reef Fish and Coastal Migratory Pelagics fishery management plans.

On Tuesday and Wednesday, July 5-6, 2005, the Standing and Special Reef Fish SSCs will review a stock assessment of red snapper prepared under the Southeast Data, Assessment and Review (SEDAR) process during workshops held between April 2004 and April 2005. The SSCs will review the workshop reports and provide the Council with a determination of whether the assessment reflects the best available scientific information. The SSCs will also review Draft Amendment 18A to the Reef Fish Fishery Management Plan (FMP). This amendment deals with enforcement and monitoring issues, including simultaneous commercial and recreational harvest on a vessel (to improve enforceability of prohibition on sale of recreationally caught reef fish), maximum crew size on a Coast Guard inspected vessel when fishing commercially (to resolve a conflict between NMFS maximum crew size and USCG minimum crew size regulations), use of reef fish for bait, and vessel monitoring system (VMS) requirements on commercial reef fish vessels. Amendment 18A also addresses administrative changes to the framework procedure for setting total allowable catch (TAC) of reef fish, and measures to reduce bycatch and bycatch mortality of endangered sea turtles and smalltooth sawfish taken inadvertently in the commercial and charter/headboat reef fish fishery.

The Standing, Special Reef Fish, and Special Mackerel SSCs will jointly review an amendment named Draft Amendment to the FMPs for Reef Fish (Amendment 25) and Coastal Migratory Pelagics (Amendment 17) for extending the Charter Vessel/Headboat Permit Moratorium. Amendments establishing the charter vessel/headboat permit moratorium for the CMP fishery and the Reef Fish fishery were approved by NOAA Fisheries on May 6, 2003, and implemented on June 16, 2003 (68 FR 26280). The intended effect of these Amendments was to cap the number of for-hire vessels operating in these two fisheries at the current level (as of March 29, 2001) while the Council evaluated whether limited access programs were needed to constrain effort. In this amendment, the Council is considering allowing the permit to expire on June 16, 2006 or extending the moratorium on for-hire Reef Fish and CMP permits for a finite period of time or indefinitely.

On Thursday and Friday, July 7-8, 2005, the Standing and Special Mackerel SSCs will review stock assessments on mackerel stocks that were developed as part of SEDAR workshops held between December 2003 and April 2004. The SSCs previously reviewed these reports at its September 1, 2004 meeting; however, there was no quorum. The SSCs will review the workshop reports and provide the Council with a determination of whether the assessment reflects the best available scientific information.

The Standing and Special Spiny Lobster SSCs will then review a spiny lobster stock assessment that was developed as part of SEDAR workshops held between January 2005 and May 2005. The SSCs will review the workshop reports and provide the Council with a determination of whether the assessment reflects the best available scientific information.

Copies of the Amendments, assessment workshop summaries and related materials can be obtained by calling the Council office at (813) 228-2815.

Although other non-emergency issues not on the agendas may come before the SSCs for discussion, in accordance with the Magnuson-Stevens Fishery Conservation and Management Act (Magnuson-Stevens Act), those issues may not be the subject of formal action during this meeting. Actions of the SSCs will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Dawn Aring at the Council (see ADDRESSES) by April 20, 2005.

Dated: June 16, 2005.
Emily Menashes,
Acting Director, Office of Sustainable Fisheries, National Marine Fisheries Service.

[FR Doc. E5-3207 Filed 6-21-05; 8:45 am]

BILLING CODE 3510-22-S